DEPARTMENT OF COMMERCE

National Oceanic and Atmospheric Administration

RIN 0648-XD685

Mid-Atlantic Fishery Management Council (MAFMC); Public Hearings

AGENCY: National Marine Fisheries Service (NMFS), National Oceanic and Atmospheric Administration (NOAA), Commerce.

ACTION: Notice of public hearings, request for comments.

SUMMARY: The Mid-Atlantic Fishery Management Council (Council) is developing an Amendment to the Atlantic Mackerel, Squid, and Butterfish Fishery Management Plan (FMP) (called “Measures to Protect Deep Sea Corals from Impacts of Fishing Gear”) that will address minimizing the impacts of fishing gear on deep sea corals in the Mid-Atlantic.

DATES: Written comments will be accepted until Wednesday, January 28, 2015. Five public hearings will be held during this comment period. See SUPPLEMENTARY INFORMATION for dates, times, and locations.

ADDRESSES: Written comments may be sent by any of the following methods:

• Email to the following address: kdancy@mafmc.org; Include “Deep Sea Corals Amendment Comments” in the subject line;

• Mail or hand deliver to Dr. Christopher M. Moore, Executive Director, Mid-Atlantic Fishery Management Council, 800 North State Street, Suite 201, Dover, Delaware 19901. Mark the outside of the envelope “Deep Sea Corals Amendment Comments”; or

• Fax to (302) 674-5399.

• A web form for submitting comments is available on the Council's Web site: http://www.mafmc.org/comments/deep-sea-corals. The draft Amendment document may be obtained from the Council office at the previously provided address, or by request to the Council by telephone (302) 674-2331, or via the Internet at http://www.mafmc.org.

• Comments may also be provided verbally at any of the five public hearings. See SUPPLEMENTARY INFORMATION for dates, times, and locations.

FOR FURTHER INFORMATION CONTACT: Dr. Christopher M. Moore, Mid-Atlantic Fishery Management Council, 800 North State Street, Suite 201, Dover, DE 19901; telephone: (302) 674-2331. The Council's Web site, www.mafmc.org also has details on the meeting location, webinar listen-in access, and public hearing materials.

SUPPLEMENTARY INFORMATION:

Background

The Council has initiated an amendment to the Atlantic Mackerel, Squid, and Butterfish FMP in order to minimize the impacts of fishing gear on deep sea corals in the mid-Atlantic. The Council has approved a range of alternatives proposing designation of deep sea coral protection zones, under the discretionary authority described in section 303(b)(2)(b) of the reauthorized Magnuson-Stevens Act (MSA). These zones would consist of areas where use of certain gear types (all bottom-tending gear or all mobile bottom-tending gear) would be restricted in order to protect deep sea corals from physical damage caused by fishing gear. Although this action is being taken through the Atlantic Mackerel, Squid, and Butterfish FMP, these measures could apply to any federally regulated fishing activity occurring within the proposed areas in the Mid-Atlantic Council region. Additionally, this amendment proposes to modify the framework provisions of the FMP and require Vessel Monitoring Systems (VMS) for all Illex squid vessels. For more information and to access the public hearing document, visit: http://www.mafmc.org/actions/msb/am16.

Public Hearings

The dates and locations of the public hearings are as follows.

• Monday, January 12, 2015, 7 p.m., Hyatt Place Long Island/East End, 451 East Main Street, Riverhead, NY 11901, telephone: (631) 208-0002;

• Tuesday, January 13, 2015, 7 p.m., The Grand Hotel, 1045 Beach Avenue, Cape May, NJ 08204, telephone: (609) 884-5611;

• Wednesday, January 14, 2015, 7 p.m., Washington Marriott at Metro Center, 775 12th Street NW., Washington, DC 20005, telephone: (202) 737-2200;

• Thursday, January 15, 2015, 7 p.m., Hilton Virginia Beach Oceanfront, 3001 Atlantic Ave., Virginia Beach, VA 23451, telephone: (866) 460-7456;

• Friday, January 16, 2015, 7 p.m., Ocean Pines Library, 11107 Cathell Rd., Berlin, MD 21811, telephone: (410) 208-4014;

• Tuesday, January 20, 2015, 7 p.m., Internet webinar, Connection information to be available at http://www.mafmc.org or by contacting the Council (see ADDRESSES above).

Special Accommodations

These public hearings are accessible to people with disabilities. Requests for sign language interpretation or other auxiliary aid should be directed to Jan Saunders, (302) 526-5251, at least 5 days prior to the meeting date.

Dated: December 22, 2014.
Tracey L. Thompson,
Acting Deputy Director, Office of Sustainable Fisheries, National Marine Fisheries Service.

[FR Doc. 2014-30316 Filed 12-24-14; 8:45 am]

BILLING CODE 3510-22-P